DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: U.S. Census Age Search.

OMB Control Number: 0607-0117.

Form Number(s): BC-600, BC-600(SP), BC-649(L), BC-658(L).

Type of Request: Extension of a currently approved collection.

Burden Hours: 629.

Number of Respondents: 2,642.

Average Hours Per Response: Ten and a half minutes.

Needs and Uses: The age and citizenship searching service is a self-supporting operation of the U.S. Census Bureau. Expenses incurred in providing census transcripts are covered by the fees paid by individuals requesting a search of the census records. The Census Bureau maintains the 1910-2000 Federal censuses for searching purposes. The purpose of the searching is to provide, upon request, transcripts of personal data from historical population census records. Information relating to age, place of birth, and citizenship is provided upon payment of the established fee to individuals for their use in qualifying for Social Security, old age benefits, retirement, court litigation, passports, insurance settlements, etc. The census records are confidential by an Act of Congress. The Census Bureau is prohibited by federal laws from disclosing any information contained in the records except upon written request from the person to whom the information pertains or to a legal representative.

Affected Public: Individuals or households.

Frequency: On occasion.

Respondent's Obligation: Required to obtain or retain benefits.

Legal Authority: Title 13 U.S.C. Section 8a.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: April 30, 2010.
Glenna Mickelson,
Management Analyst, Office of the Chief Information Officer.

[FR Doc. 2010-10609 Filed 5-5-10; 8:45 am]

BILLING CODE 3510-07-P